DEPARTMENT OF DEFENSE

Department of the Air Force

[Docket ID: USAF-2010-0027]

Privacy Act of 1974; System of Records

AGENCY: Department of the Air Force, DoD.

ACTION: Notice to add a system of records.

SUMMARY: The Department of the Air Force is proposing to add a system of records notice in its existing inventory of records systems subject to the Privacy Act of 1974 (5 U.S.C. 552a), as amended.

DATES: The proposed action will be effective on November 22, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, 703-696-6488.

SUPPLEMENTARY INFORMATION: The Department of the Air Force systems of records notices subject to the Privacy Act of 1974 (5 U.S.C. 552a), as amended, have been published in the Federal Register and are available from the Department of the Air Force Privacy Office, Air Force Privacy Act Office, Office of Warfighting Integration and Chief Information officer, ATTN: SAF/XCPPI, 1800 Air Force Pentagon, Washington, DC 20330-1800.

The proposed systems report, as required by 5 U.S.C. 552a(r) of the Privacy Act, was submitted on October 5, 2010, to the House Committee on Oversight and Government Reform, and the Senate Committee on Homeland Security and Governmental Affairs pursuant to paragraph 4c of Appendix I to Office of Management and Budget Circular No. A-130, “Federal Agency Responsibilities for Maintaining Records About Individuals,” dated February 8, 1996 (February 20, 1996; 61 FR 6427).

Dated: October 18, 2010.
Mitchell S. Bryman,
Alternate OSD Federal Register Liaison Officer, Department of Defense.

FO36 AFOSI E

System name:

Command Learning Management System.

System location:

Headquarters, Air Force Office of Special Investigations (AFOSI), 1535 Command Drive, Andrews AFB, MD 20762-7002.

Categories of individuals covered by the system:

All military personnel on active and reserve duty, Air Force civilians and contractors assigned to or employed either directly or indirectly by the Air Force Office of Special Investigations (AFOSI). Also includes AFOSI personnel assigned to any Department of Defense (DoD) activity or DoD sponsored program.

Categories of records in the system:

Records concerning completion of all training courses attended, course certification, records of ancillary training completion and weapons qualification. Record data includes name, Social Security Number (SSN), home address and work telephone number.

Authority for maintenance of the system:

10 U.S.C. 8013, Secretary of the Air Force; AFI 36-2201 V1, Training Development, Delivery and Evaluation; Air Force Mission Directive 39, Air Force Office of Special Investigations (AFOSI); Air Force Policy Directive 71-1, Criminal Investigations and Counterintelligence; and E.O. 9397 (SSN), as amended.

Purpose(s):

Used by the Air Force Special Investigations Academy (AFSIA) training monitors, supervisors and personnel to identify, monitor and schedule Air Force and AFOSI mandated training. The system maintains each individuals training history and is a repository for historical documentation such as certificates and transcripts.

Routine uses of records maintained in the system, including categories of users and the purposes of such uses:

In addition to those disclosures generally permitted under 5 U.S.C. 552A(b) of the Privacy Act of 1974, these records contained therein may be specifically disclosed outside the Department of Defense as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Electronic storage media.

Retrievability:

Retrieved by individual's name.

Safeguards:

Records are accessed by custodian of the record system and by person(s) responsible for servicing the record system in performance of their official duties, properly screened and cleared for need-to-know. Records are stored on the Learning Management System computer server located behind a Virtual Private Network (VPN) controlled by AFOSI and accessible only by persons cleared for access to the network.

Retention and disposal:

Retained in database until reassignment outside of AFOSI or separation/retirement; records are destroyed within 365 days after such actions by the data base administrator. Back-up tapes are overwritten every three weeks removing any inactive records.

System manager(s) and address:

Director of War Fighting Integration, HQ AFOSI/XI, 1535 Command Drive, Andrews AFB, MD 20762-7002.

Notification procedure:

Individuals seeking to determine whether information about themselves is contained in this system of records should address written inquiries to the Chief, Information Release Branch, HQ AFOSI/XILI, ATTN: Freedom of Information/Privacy Act Officer, P.O. Box 2218, Waldorf, MD 20604-2218.

Individuals should complete AFOSI's Certification of Identity, Freedom of Information and Privacy Act request form giving their contact information (name, address, phone number, contact e-mail address, and a brief description of the information they are seeking) and are required to sign and date the penalty of perjury clause attesting that they are the person they say they are.

Record access procedures:

Individuals seeking access to information about themselves should address written inquiries to the Chief, Information Release Branch, HQ AFOSI/XILI, ATTN: Freedom of Information/Privacy Act Officer, P.O. Box 2218, Waldorf, MD 20604-2218.

Individuals should complete AFOSI's Certification of Identity, Freedom of Information and Privacy Act request form giving their contact information (name, address, phone number, contact e-mail address, and a brief description of the information they are seeking) and are required to sign and date the penalty of perjury clause attesting that they are the person they say they are.

Contesting record procedures:

The Air Force rules for accessing records, and for contesting contents and appealing initial agency determinations are published in Air Force Instruction 33-332; 32 CFR part 806b; or may be obtained from the system manager.

Record source categories:

From the individual, individual training records, and the Security Forces Management Information System (SFMIS).

Exemptions claimed for the system:

None.

[FR Doc. 2010-26517 Filed 10-20-10; 8:45 am]

BILLING CODE 5001-06-P